FEDERAL ELECTION COMMISSION

Sunshine Act Meeting

AGENCY: Federal Election Commission.

Previously Announced Date & Time: Tuesday, April 9, 2002, Meeting Closed to the Public. This Meeting Has Been Rescheduled for Wednesday, April 10, 2002.

Date & Time: Wednesday, April 10, 2002 at 10 A.M.

Place: 999 E Street, N.W., Washington, D.C.

Status: This Meeting Will Be Closed To The Public.

Items To Be Discussed: Compliance matters pursuant to 2 U.S.C. 437 g.

Audits conducted pursuant to 2 U.S.C. 437g, 438(b), and Title 26, U.S.C.

Matters concerning participation in civil actions or proceedings or arbitration.

Internal personnel rules and procedures or matters affecting a particular employee.

Date & Time: Thursday, April 11, 2002 at 10 A.M.

Place: 999 E Street, N.W., Washington, D.C. (Ninth Floor)

Status: This Meeting Will Be Open To The Public.

Items To Be Discussed: Correction and Approval of Minutes.

Report of the Audit Division on McCain 2000, Inc. and McCain 2000 Compliance Committee, Inc.

Draft Advisory Opinion 2002-03: Green Party of Ohio by Paul Dumouchelle, Convener.

Rulemaking Plan to Implement the Bipartisan Campaign Reform Act of 2002; Revised Regulations Priorities.

Statement of Policy Regarding Party Committee Coordinated Expenditures.

Administrative Matters.

PERSON TO CONTACT FOR INFORMATION: Mr. Ron Harris, Press Officer, Telephone: (202) 694-1220.

Mary W. Dove,
Secretary of the Commission.

[FR Doc. 02-8350 Filed 4-2-02; 3:31 pm]

BILLING CODE 6715-01-M